DEPARTMENT OF HOUSING AND URBAN DEVELOPMENT

[Docket No. FR-5330-D-02]

Redelegation of Authority for Homelessness Prevention and Rapid Re-Housing Program

AGENCY: Office of the Assistant Secretary for Community Planning and Development, HUD.

ACTION: Notice of redelegation of authority.

SUMMARY: In this notice, the Assistant Secretary for Community Planning and Development redelegates to the Community Planning and Development Field Directors the authority necessary to implement the Homelessness Prevention and Rapid Re-Housing Program (HPRP), which was established under the Homelessness Prevention Fund heading of Division A, Title XII of the American Recovery and Reinvestment Act of 2009.

DATES: Effective Date: July 21, 2009.

FOR FURTHER INFORMATION CONTACT: Ann Oliva, Director, Office of Special Needs Assistance Programs, Department of Housing and Urban Development, 451 7th Street, SW., Washington, DC 20410, 202-708-4300. (This is not a toll-free number.) Hearing or speech-impaired individuals, may access this number via TTY by calling the Federal Information Relay Service at 1-800-877-8399.

SUPPLEMENTARY INFORMATION: This notice states the scope of authority delegated to the Community Planning and Development Field Directors with respect to HPRP. The Secretary of Housing and Urban Development delegated to the Assistant Secretary for Community Planning and Development all power and authority of the Secretary with respect to HPRP, except the power to sue and be sued. In that delegation published on June 5, 2009 (74 FR 28055), the Secretary authorized the Assistant Secretary to redelegate to employees of HUD any of the powers and authority delegated to the Assistant Secretary, with the exception of the authority to issue or waive rules and regulations. In this notice, the Assistant Secretary for Community Planning and Development redelegates the power and authority of the Assistant Secretary as specified below, in accordance with applicable law, rule and departmental policy.

• Section A. Authority Redelegated:

The Community Planning and Development Field Directors are redelegated all power and authority of the Assistant Secretary for Community Planning and Development with respect to HPRP.

• Section B. Authority Excepted:

The power and authority redelegated under Section A do not include the power and authority to issue or waive rules and regulations or the power to sue and be sued.

• Section C. No Further Redelegation:

The power and authority redelegated under Section A may not be further redelegated.

Authority: Section 7(d) of the Department of HUD Act, 42 U.S.C. 3535(d).

Dated: July 21, 2009.
Mercedes Márquez,
Assistant Secretary for Community Planning and Development.

[FR Doc. E9-18088 Filed 7-28-09; 8:45 am]

BILLING CODE 4210-67-P